DEPARTMENT OF HEALTH AND HUMAN SERVICES

[Document Identifier OS-0990-New]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 4, 2018.

ADDRESSES: Submit your comments to Sherrette.Funn@hhs.gov or by calling 202-795-7714.

FOR FURTHER INFORMATION CONTACT: When submitting comments or requesting information, please include the document identifier 0990-New-60D and project title for reference to Sherrette.funn@hhs.gov or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Trafficking Victim Assistance Program Social Network Analysis—Network Survey.

Type of Collection: New.

OMB No. 0990-NEW-Office of the Assistant Secretary for Planning and Evaluation-Administration for Children and Families' Trafficking Victim Assistance Program

Abstract

The Office of the Assistant Secretary for Planning and Evaluation (ASPE), in partnership with the Administration for Children and Families (ACF), U.S. Department of Health and Human Services (HHS) is requesting Office of Management and Budget (OMB) approval for a new information collection request, “Trafficking Victim Assistance Program (TVAP) Network Survey.” ICF has been contracted to carry out this project under the guidance of ASPE and ACF.

TVAP, as authorized by the Trafficking Victims Protection Act of 2000, provides comprehensive case management services to foreign-born victims of human trafficking residing in the United States. Since its inception, TVAP funding and infrastructure have remained relatively unchanged: Services are paid on a per capita basis, and funds are managed through three primary grantees that enter into cooperative agreements with service providers (subrecipients). Given the changing landscape and the greater understanding of the nature and extent of trafficking, HHS is undertaking a program assessment to understand whether any efficiencies can be gained in the program administration and structure. Building on an earlier fiscal year 2018 assessment to solicit qualitative feedback from a range of program stakeholders, the information collected for this program survey aims to help HHS determine if efficiencies can be gained through improved coordination among TVAP grantees, TVAP subrecipients, and other service providers.

The data collected and analyzed under this submission will help HHS better understand the type and extent of the relationships between the TVAP grantees, TVAP subrecipients, and other service providers operating in TVAP subrecipient areas. This information will enable HHS to understand the structure of the grantee/subrecipient network and inform recommendations for more efficient network management and distribution of support.

Data will be collected through an electronic survey of fiscal year 2016 TVAP grantees and subrecipients. Key staff at grantee sites and subrecipient organizations will complete a self-administered online survey that will include questions for each respondent about services for which referrals are made, estimated costs of services, service coordination between grantees or subrecipients, and type and strength of relationships between grantees and subrecipients. With this data, ICFwill build a social/organizational network for HHS to depict how grantee and subrecipient organizations collaborate with one another through TVAP to better understand the existing network and identify potential opportunities for improving the efficiency of the network. ASPE anticipates completion of all data collection activities by October 2018.

Annualized Burden Hour Table
Forms | Respondents | Number of respondents | Number of responses per respondents | Average burden per response | Total burden hours
TVAP Network Survey | TVAP grantees | 3 | 1 | 45/60 | 2.25
TVAP Network Survey | TVAP subrecipients | 253 | 1 | 45/60 | 189.75
Total |  | 256 |  |  | 192

Terry S. Clark,
Office of the Secretary, Paperwork Reduction Act Reports Clearance Officer.

[FR Doc. 2018-04386 Filed 3-2-18; 8:45 am]

BILLING CODE 4150-05-P